DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 58 eligible grant recipients funded in FY 2025 under the State Opioid Response (SOR), Notice of Funding Opportunity (NOFO) TI-24-008. The SOR formula will be used to calculate the award amounts for all 50 states, District of Columbia and Puerto Rico with a minimum award constraint of $500,000. The following six territories: American Samoa, Guam, Micronesia, Northern Mariana Islands, Palau, and Virgin Islands may receive $100,000 each, for a total of $43,196,037 across the program. If any grantee declines the supplement, the remaining balance will be redistributed to the states that accept the supplement, including the District of Columbia and Puerto Rico, using the SOR formula. Recipients have a project end date for use of these supplemental funds of September 29, 2026. The supplements will be used to develop and/or expand recovery housing for young adults (ages 18-24) with opioid and/or stimulant use disorders. Grant recipients will also be allowed to provide other treatment and recovery support services.

FOR FURTHER INFORMATION CONTACT: Substance Abuse and Mental Health Services Administration, 5600 Fishers Lane, Rockville, MD 20857, OPIOIDSOR@samhsa.hhs.gov.

SUPPLEMENTARY INFORMATION:

Funding Opportunity Title: FY 2024 State Opioid Response (SOR) TI-24-008.

Assistance Listing Number: 93.788.

Authority: Section 1003 of the 21st Century Cures Act, 42 U.S.C. 290ee-3 note.

Justification: This is not a formal request for application. These supplemental awards will be offered to all 58 current FY 2024 SOR grant recipients awarded under NOFO TI-24-008. The SOR program currently requires that grant recipients implement recovery support services, which may include recovery housing. However, results from SOR data indicate that young adults (ages 18-24) served by the SOR program since FY 2024 experienced the lowest rates of housing stability compared to all other age groups. Recovery housing ensures that young adults have a stable living environment that allows them to maintain and increase their recovery capital.

Dated: August 21, 2025.
Alicia Broadus,
Public Health Analyst.

[FR Doc. 2025-16259 Filed 8-22-25; 8:45 am]

BILLING CODE 4162-20-P